DEPARTMENT OF COMMERCE

National Telecommunications and Information Administration

Agency Information Collection Activities; Submission to the Office of Management and Budget (OMB) for Review and Approval; Comment Request; NTIA Space Launch Frequency Coordination Portal

AGENCY: National Telecommunications and Information Administration, U.S. Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 1, 2025.

ADDRESSES: Interested persons are invited to submit written comments by mail to Michael Litwack, Computer Scientist, Spectrum National Security Systems, Office of Spectrum Management 1401 Constitution Avenue NW, Washington, DC 20230, or by email to mlitwack@ntia.gov. Please reference NTIA Space Launch Coordination Portal in the subject line of your comments. Do not submit Confidential Business Information or otherwise sensitive or protected information.

FOR FURTHER INFORMATION CONTACT: Requests for additional information or specific questions related to collection activities should be directed to Michael Litwack, Computer Scientist, Spectrum National Security Systems, Office of Spectrum Management 1401 Constitution Avenue NW, Washington, DC 20230, 202-821-6532, and mlitwack@ntia.gov.

SUPPLEMENTARY INFORMATION:

I. Abstract

NTIA serves as the President's principal advisor on telecommunications policies and manages the use of the radio-frequency spectrum by federal agencies. See 47 U.S.C. 902(b)(2). The Space Portal effort seeks to simplify spectrum requests for commercial space launch providers. Currently, the process is a manual request coordinated via email. This effort will provide a central portal where a commercial space launch entity will submit a request for a launch. The commercial launch provider will initiate a request, and the request will be coordinated amongst the federal agencies. The portal will provide a transparent view of where spectrum requests are in the federal spectrum approval process. Commercial launch providers will be able to view the status of their requests and respond to actionable items. This portal ensures compliance with Executive Order 12046, which establishes NTIA's spectrum oversight role, and 47 CFR part 300, which requires that federal systems must adhere to the NTIA manual's procedures and data formats.

II. Method of Collection

Information will be collected electronically through a web application. This portal will collect requests and then route those requests to multiple agencies. Multiple dashboards will display information to users. Commercial space launch entities will be able to review their requests and visualize where their request is in the coordination process. Additionally, federal entities will be able to view all aspects of a request including comments from other federal agencies.

III. Data

OMB Control Number: 06XX-XXXX.

Form Number(s): None.

Type of Review: Regular submission, new information collection.

Affected Public: Commercial Space Launch Providers.

Estimated Number of Respondents: 15.

Estimated Time per Response: 3 hours.

Estimated Total Annual Burden Hours: 3,000 hours.

Estimated Total Annual Cost to Public: $194,460.

Respondent's Obligation: Mandatory.

Legal Authority: Executive Order 12046, 47 CFR part 300, 47 U.S.C. 902(b)(2).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection Request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-19192 Filed 9-30-25; 8:45 am]

BILLING CODE 3510-60-P